DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236, as detailed below.

Docket Number FRA-2007-29017

Applicant: Lake Superior and Ishpeming Railroad Company, Mr. James Scullion, Manager, Maintenance, P.O. Box 2000, Ishpeming, Michigan 49849.

The Lake Superior and Ishpeming Railroad Company seeks approval of the proposed discontinuance and removal of the control points and associated equipment of a traffic control system (TCS) on the Ore Subdivision, from Marquette, MI (Milepost 55.27) to East Eagle Mills, MI (Milepost 64.60), inclusive.

The reason given for the proposed changes is that the TCS is no longer necessary for train operations. Main track authority will be issued through Track Warrant Control.

Any interested party desiring to protest the granting of an application, shall set forth specifically the grounds upon which the protest is made, and include a concise statement of the interest of the party in the proceeding. Additionally, one copy of the protest shall be furnished to the applicant at the address listed above.

FRA expects to be able to determine these matters without an oral hearing. However, if a specific request for an oral hearing is accompanied by a showing that the party is unable to adequately present his/her position by written statements, an application may be set for public hearing.

All communications concerning this proceeding should identify the appropriate docket number (FRA-2007-29017) and may be submitted by one of the following methods:

Web site: http://dms.dot.gov. Follow the instructions for submitting comments on the DOT electronic site;

Fax: 202-493-2251;

Mail: Docket Management Facility, U.S. Department of Transportation, 1200 New Jersey Avenue, SE., West Building Ground Floor, Room W12-140, Washington, DC 20590; or

Hand Delivery: Room W12-140 of the U.S. Department of Transportation, West Building Ground Floor, 1200 New Jersey Avenue, SE., Washington, DC between 9 a.m. and 5 p.m. Monday through Friday, except Federal holidays.

Communications received within 45 days of the date of this notice will be considered by FRA prior to final action being taken. Comments received after that date will be considered to the extent practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

Issued in Washington, DC on October 3, 2007.
Grady C. Cothen, Jr.,
Deputy Associate Administrator for Safety Standards and Program Development.

[FR Doc. E7-19991 Filed 10-10-07; 8:45 am]

BILLING CODE 4910-06-P